ENVIRONMENTAL PROTECTION AGENCY

[EPA-HQ-OPPT-2024-0057; FRL-11683-12-OCSPP]

Certain New Chemicals; Receipt and Status Information for December 2024

AGENCY: Environmental Protection Agency (EPA).

ACTION: Notice and request for comment.

SUMMARY: EPA is required under the Toxic Substances Control Act (TSCA) to make information publicly available and to publish information in the Federal Register pertaining to submissions under TSCA, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 12/01/2024 to 12/31/2024.

DATES: Comments must be received on or before March 26, 2025.

ADDRESSES: Submit your comments, identified by docket identification (ID) number EPA-HQ-OPPT-2024-0057 and the specific case number provided in this document for the chemical substance related to your comment, online at https://www.regulations.gov. Follow the online instructions for submitting comments. Do not submit electronically any information you consider to be Confidential Business Information (CBI) or other information whose disclosure is restricted by statute. Additional instructions on commenting and visiting the docket, along with more information about dockets generally, is available at https://www.epa.gov/.

FOR FURTHER INFORMATION CONTACT:

For technical information: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 12/01/2024 to 12/31/2024. The Agency is providing notice of receipt of PMNs, SNUNs, and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices.

B. What is the Agency's authority for taking this action?

Under TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: https://www.epa.gov/under-tsca.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting CBI. Do not submit CBI to EPA through https://www.regulations.gov or email. If you wish to include CBI in your comment, please follow the instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR parts 2 and 703.

2. Tips for preparing your comments. When preparing and submitting your comments, see the commenting tips at https://www.epa.gov/dockets/commenting-epa-dockets.

II. Status Reports

In the past, EPA has published individual notices reflecting the status of TSCA section 5 filings received, pending, or concluded. In 1995, the Agency modified its approach and streamlined the information published in the Federal Register after providing notice of such changes to the public and an opportunity to comment (see the Federal Register of May 12, 1995 (60 FR 25798) (FRL-4942-7)). Since the passage of the Lautenberg amendments to TSCA in 2016, public interest in information on the status of section 5 cases under EPA review, and particularly the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table 1—PMN/SNUN/MCANs Approved *
Case No. | Version | Received date | Manufacturer | Use | Chemical substance
J-25-0002 | 1 | 11/27/2024 | Greenlight Biosciences, Inc | (G) To produce DNA for use in internal manufacturing | (G) Strain of Escherichia coli modified with genetically stable, plasmid-borne DNA for the production of plasmid-borne DNA.
J-25-0003 | 1 | 12/05/2024 | Greenlight Biosciences, Inc | (G) To produce an enzyme for use in internal manufacturing | (G) Strain of Escherichia coli modified with genetically stable, plasmid-borne DNA for the production of an enzyme.
P-20-0184A | 6 | 12/05/2024 | P2 Science, Inc | (S) For use in fragrances for consumer products, Specific functions would be as solubilizer, rheology modifier and fragrance oil | (S) 6-Octen-1-ol, 3,7-dimethyl-, homopolymer.
P-22-0126A | 4 | 12/16/2024 | Takasago | (S) This polymer constitutes the wall of microcapsules containing fragrance that can be used in different homecare and personal-care applications | (S) Cellulose, polymer with 1,1′-[2-ethyl-2-[(3-mercapto-1-oxopropoxy) methyl]-1,3-propanediyl] bis(3-mercaptopropanoate) and 1,2,3-propanetriol bis(2-methyl-2-propenoate), peroxydisulfuric acid ([(HO)S(O)2]2O2) ammonium salt (1:2)- and sodium (disulfite) (2:1)-initiated.
P-23-0035A | 3 | 11/27/2024 | CBI | (G) Isolated intermediate | (G) Aryl alkoxy ether.
P-23-0141A | 3 | 12/12/2024 | Hach Company | (G) Buffer solution for free chlorine determination | (S) 2-Butenedioic acid (2Z)-, potassium salt (1:?).
P-24-0046A | 3 | 12/05/2024 | The Euclid Chemical Company | (S) Grinding aid used in cement manufacture | (G) Alkanol, alkoxyalkyl imino, salt.
P-24-0047A | 3 | 12/05/2024 | The Euclid Chemical Company | (S) Grinding aid used in cement manufacture | (G) Alkanol, nitrilo, salt
P-24-0123 | 3 | 11/29/2024 | CBI | (S) Resin raw material | (G) Plant oil, microorganism-fermented, hydroxylalkenoic acid-hydroxylalkenoic acid polymer, Oils, microorganism-fermented, hydroxylalkenoic acid-hydroxylalkenoic acid polymer.
P-25-0024 | 1 | 12/02/2024 | Momentive Performance Materials | (S) Intermediate | (S) Silane, chlorodimethyl(2,4,4-trimethylpentyl)-.
P-25-0025 | 1 | 12/02/2024 | CBI | (G) Photolithography | (G) Carbomonocyclic alcohol, 4,4- [[6-(heteroatom-substituted carbomonocycle)-heteromonocycle-2,4-diyl] heteroatom-substituted] bis-.
P-25-0026 | 1 | 12/03/2024 | Anderson Development Company | (G) Additive in lithium-ion batteries | (G) Bi-heteromonocycle, polyoxide.
P-25-0027 | 2 | 12/19/2024 | Elemental Advanced Materials, Inc | (S) The CNOs produced do not require any further treatment for its application on concrete, resins, batteries, paints, asphalt, polyurethanes, etc. Additionally, the CNOs are ready to be combined with other nanostructures to create 2nd generation Li-Ion batteries and antimicrobial materials or composites | (S) Graphene, Carbon Nano-Onions.
P-25-0028 | 1 | 12/05/2024 | CBI | (G) Contained use for microlithography for electronic device manufacturing | (G) Heteroonium, tri (substituted aromatic hydrocarbon)-, nitrate (1:1).
P-25-0029 | 2 | 12/11/2024 | CBI | (G) Functional additive in composite, precursor for high-value nanomaterials | (S) Graphene Oxide.
P-25-0030 | 2 | 12/11/2024 | CBI | (G) precursor for high-value nanomaterials, Functional additive in composite | (S) Graphene Oxide.
P-25-0031 | 1 | 12/06/2024 | Bedoukian Research, Inc | (G) site limited chemical intermediate | (G) Bromoalkyl acetate.
P-25-0031A | 2 | 12/11/2024 | Bedoukian Research, Inc | (G) site limited chemical intermediate | (G) Bromoalkyl acetate.
P-25-0032 | 1 | 12/08/2024 | Duksan Electera America, Inc | (S) Chemical substance will be used as an additive in the manufacture of battery electrolytes | (S) Carbonic acid, methyl 2-propyn-1-yl ester.
P-25-0033 | 2 | 12/13/2024 | HPC Holdings, Inc | (S) Use as a cosolvent for the electrolyte in sealed lithium-ion battery cells; Process solvent in industrial closed loop systems; Industrial Carrier/Cleaning solvent (for vapor cleaning, vapor degreasing, and vapor deposition) | (S) Ethane, 1,1′-[methylenebis(osy)] bis [2,2,2-trifluoro-.
P-25-0034 | 1 | 12/10/2024 | Piedmont Chemical Industries I, LLC | (S) Additive for UV curing of road markings, Additive for UV curing of adhesives of coatings, Additive for UV curing of adhesives or coatings | (S) Benzenemethanamine, N, N-dimethyl-, N-oxide Benzyldimethyllamine-N-oxide.
P-25-0036 | 1 | 12/16/2024 | Bedoukian Research, Inc | (S) site limited chemical intermediate | (G) 6-Alken-2-yne, 1-(1-ethoxyethoxy)-, (6Z)-.
P-25-0037 | 1 | 12/19/2024 | Momentive Performance Materials | (S) Intermediate | (S) Silane, dimethyl(2,4,4-trimethylpentyl)-.
P-25-0040 | 1 | 12/20/2024 | Motiva Enterprises, LLC | (G) Intermediate | (G) Gases, processed.
P-25-0041 | 1 | 12/23/2024 | Motiva Enterprises, LLC | (G) Additive for consumer, commercial, and industrial uses | (G) Hydrocarbon, processed.
P-25-0042 | 1 | 12/23/2024 | Motiva Enterprises, LLC | (G) Additive for consumer, commercial, and industrial uses | (G) Hydrocarbon, processed.
P-25-0043 | 1 | 12/23/2024 | Motiva Enterprises, LLC | (G) Additive for consumer, commercial, and industrial uses | (G) Hydrocarbon, processed.
P-25-0044 | 1 | 12/23/2024 | Motiva Enterprises, LLC | (G) Additive for consumer, commercial, and industrial uses | (G) Hydrocarbon, processed.
P-25-0045 | 1 | 12/23/2024 | Motiva Enterprises, LLC | (G) Additive for consumer, commercial, and industrial uses | (G) Hydrocarbons, carbon range.
P-25-0046 | 1 | 12/23/2024 | Motiva Enterprises, LLC | (G) Additive for consumer, commercial, and industrial uses | (G) Hydrocarbon, processed.
P-25-0047 | 1 | 12/23/2024 | Motiva Enterprises, LLC | (G) Intermediate | (G) Hydrocarbon, processed.
P-25-0048 | 1 | 12/23/2024 | Motiva Enterprises, LLC | (G) Intermediate | (G) Hydrocarbon, processed.
P-25-0049 | 1 | 12/23/2024 | Motiva Enterprises, LLC | (G) Intermediate | (G) Hydrocarbon, processed.
P-25-0050 | 1 | 12/23/2024 | Motiva Enterprises, LLC | (G) Additive for consumer, commercial, and industrial uses, Intermediate | (G) Hydrocarbon, processed.
P-25-0051 | 1 | 12/23/2024 | Motiva Enterprises, LLC | (G) Additive for consumer, commercial, and industrial uses | (G) Hydrocarbon, processed.
P-25-0052 | 1 | 12/23/2024 | Motiva Enterprises, LLC | (G) Intermediate | (G) Hydrocarbon, processed.
P-25-0053 | 1 | 12/23/2024 | Motiva Enterprises, LLC | (G) Intermediate | (G) Hydrocarbon, processed.
P-25-0054 | 1 | 12/23/2024 | Motiva Enterprises, LLC | (G) Intermediate | (G) Hydrocarbon, processed.
P-25-0055 | 1 | 12/23/2024 | Motiva Enterprises, LLC | (G) Additive used in industrial and commercial applications | (G) Hydrocarbon, processed.
P-25-0056 | 1 | 12/23/2024 | Motiva Enterprises, LLC | (G) Intermediate | (G) Hydrocarbon, processed.
P-25-0057 | 1 | 12/23/2024 | Motiva Enterprises, LLC | (G) Intermediate | (G) Hydrocarbon, processed.
SN-25-0002A | 2 | 12/03/2024 | CBI | (G) Additive used in plastic panels | (S) Cesium tungsten oxide.
SN-25-0003A | 2 | 12/04/2024 | CBI | (S) Cathode Active Material in Batteries | (S) Phosphoric acid, iron (2+) lithium salt (1:1:1).
SN-25-0004 | 1 | 12/18/2024 | CBI | (G) Formulation into cosmetic products; Use as monomer in polymer industry | (S) 1,3-Butanediol, (3R)-.
* The term `Approved' indicates that a submission has passed a quick initial screen ensuring all required information and documents have been provided with the submission prior to the start of the 90-day review period, and in no way reflects the final status of a complete submission review.

In Table 2 of this unit, EPA provides the following information (to the extent that such information is not claimed as CBI) on the NOCs that have passed an initial screening by EPA during this period: The EPA case number assigned to the NOC including whether the submission was an initial or amended submission; the date the NOC was received by EPA; the date of commencement provided by the submitter in the NOC; a notation, if applicable, of the type of amendment (e.g., amendment to generic name, specific name, technical contact information, etc.); and the chemical substance identity.

Table 2—NOCs Approved *
Case No. | Received date | Commencement date | If amendment, type of amendment | Chemical substance
P-13-0143A | 12/05/2024 | 03/11/2013 | Submitter provided a new version due to issues with first submission attempt in March 2013 | (G) Alkanedioic acid, polyisoalkylene derivs., (alkylamino) alkyl esters.
P-15-0046 | 12/05/2024 | 11/19/2024 | N/A | (S) Propanol, oxybis-, polymer with bis(isocyanatomethyl) cyclohexane and. alpha. -hydro-. omega. -hydroxypoly(oxy-1,4-butanediyl).
P-18-0143 | 11/27/2024 | 11/21/2024 | N/A | (S) Fatty acids, tall-oil, polymers with N3-(3-aminopropyl)-N1, N1-dimethyl-1,3-propanediamine, polyethylenepolyamines triethylenetetramine fraction, and 2,4,6-tris[(dimethylamino)methyl] phenol.
P-19-0148 | 12/10/2024 | 11/11/2024 | N/A | (G) Iron, complexes with ethylenediamine-4-hydroxycarbomonocycle hetero-acid-2-oxoacetic acid reaction products, potassium salts.
P-21-0180 | 12/18/2024 | 12/16/2024 | N/A | (G) Sulfonium, (heterosubstitutedphenyl)diphenyl-, salt with 1-heterosubstituted-2-methylalkyl trisubstituted benzoate (1:1).
P-24-0018 | 12/03/2024 | 11/26/2024 | N/A | (S) 2-Propenoic acid, 2-methyl-, butyl ester, polymer with 2-dodecylhexadecyl 2-methyl-2-propenoate, 2-oxepanonehomopolymer 2-[(2-methyl-1-oxo-2-propen-1-yl) oxy] ethyl ester and 2-tetradecyloctadecyl 2-methyl-2-propenoate.
* The term ‘Approved’ indicates that a submission has passed a quick initial screen ensuring all required information and documents have been provided with the submission.

In Table 3 of this unit, EPA provides the following information (to the extent such information is not subject to a CBI claim) on the test information that has been received during this time period: The EPA case number assigned to the test information; the date the test information was received by EPA, the type of test information submitted, and chemical substance identity.

Table 3—Test Information Received
Case No. | Received date | Type of test information | Chemical substance
P-10-0317; P-06-0494; P-09-0037; P-09-0511; P-06-0474; P-06-0586; P-07-0447. | 12/31/2024 | Measured amounts of C8 and C10 impurities in representative samples | (G) Fluoroalkyl acrylate copolymer; (G) Fluoroalkyl methacrylate copolymer; (G) Fluoroalkyl methacrylate copolymer; (G) Fluoroalkyl acrylate copolymer; (G) Fluoroalkyl acrylate copolymer; (G) Fluoroalkyl methacrylate co-polymer; (G) Fluoroalkyl acrylate copolymer.
P-13-0679; P-13-0646; P-13-0647; P-13-0648; P-13-0678; P-15-0154. | 12/31/2024 | Measures amounts of impurities in representative samples | (G) Fluoroalkyl acrylate copolymer; (G) Fluoroalkyl acrylate copolymer modified with polysiloxanes; (G) Fluoroalkyl acrylate copolymer; (G) Fluoroalkyl acrylate copolymer modified with polysiloxanes; (G) Fluoroalkyl methylacrylate copolymer; (G) Perfluorinated polymer with potential [C6] ultimate degradant.
P-14-0712 | 12/13/2024 | Polychlorinated Dibenzodioxins and Polychlorinated dibenzofurans Testing | (S) Waste plastics, pyrolyzed, C5-55 fraction.
P-16-0543 | 12/18/2024 | Exposure Monitoring Report | (G) Halogenophosphoric acid metal salt.
P-19-0166 | 12/12/2024 | Determination of n-Octanol/Water Partition Coefficient (Slow Stir Method) | (G) Triarylsulfonium alkylestersulfonate.
P-20-0174 | 12/05/2024 | OECD 120 study (Determination of Solution/Extraction Behavior in Water) | (S) 6-Octen-1-ol, 3,7-dimethyl-, homopolymer, monoacetate.
P-25-0025 | 12/16/2024 | Acute Oral Toxicity (AOT) (OECD Test Guideline 420) | (G) Carbomonocyclic alcohol, 4,4- [[6-(heteroatom-substituted carbomonocycle)-heteromonocycle-2,4-diyl] heteroatom-substituted] bis-.
P-25-0026 | 12/10/2024 | Study Report | (G) Bi-heteromonocycle, polyoxide.
SN-24-0004 | 12/05/2024 | Oral Gavage in Vivo Mutation Assay; Extended One Generation Reproductive Toxicity Study in the Sprague Dawley Rat by Oral Gavage Administration with Extension to F2 Generation | (S) Oxirane, 2,2′-[1,6-hexanediylbis(oxymethylene)] bis-.

If you are interested in information that is not included in these tables, you may contact EPA's technical information contact or general information contact as described under FOR FURTHER INFORMATION CONTACT to access additional non-CBI information that may be available.

Authority: 15 U.S.C. 2601 et seq.

Dated: February 14, 2025.
Todd Holderman,
Deputy Director, Project Management and Operations Division, Office of Pollution Prevention and Toxics.

[FR Doc. 2025-02994 Filed 2-21-25; 8:45 am]

BILLING CODE 6560-50-P